DEPARTMENT OF AGRICULTURE

Commodity Credit Corporation

Request for Revision and Extension of a Currently Approved Information Collection

AGENCY: Commodity Credit Corporation, USDA.

ACTION: Notice and request for comments.

SUMMARY: In accordance with the Paperwork Reduction Act of 1995, this notice announces the intention of the Commodity Credit Corporation (CCC) to request a revision and extension of a currently approved information collection. This collection is necessary to support the procurement of agricultural commodities for CCC's domestic and export food donation programs. CCC issues invitations to purchase or process commodities for food donation programs on a monthly, multi-month, quarterly, and yearly basis. Special invitations, however, are issued throughout the month.

DATES: Comments on this notice must be received on or before May 31, 2005 to be assured consideration.

ADDITIONAL INFORMATION OR COMMENTS: Comments regarding this information collection requirement may be directed to Penny Carlson, Acting Chief, Planning and Analysis Division, Kansas City Commodity Office (KCCO), 6501 Beacon Drive, Kansas City, Missouri 64133-4676, telephone (816) 926-6509, fax (816) 926-1648; e-mail PKCARLSON@kcc.usda.gov.

SUPPLEMENTARY INFORMATION: Title: Offer Forms.

OMB Number: 0560-0177.

Expiration Date: 9/30/2005.

Type of Request: Revision and Extension of a currently approved information collection.

Abstract: The United States donates agricultural commodities domestically and overseas to meet famine or other relief requirements, to combat malnutrition, and sells or donates commodities to promote economic development. CCC issues invitations to purchase or sell agricultural commodities and services or use in domestic and export programs. Vendors respond by making offers using various CCC commodity offer forms. The Export Offer forms and the KC-333, Annual Certification are prepared and received electronically through the Electronic Bid Entry System (EBES). Most of the Domestic Offer forms (KC-327) are prepared and received electronically through the Domestic Bid Entry System (DEBES) via the Internet. Vendors can access EBES or DEBES on-line to see the date/time the system shows for receipt of bid, bid modification, or bid cancellation. At bid opening date/time, the bids are system evaluated. Acceptance wires are sent to the successful offerors. Awarded contracts are posted on our Web site.

Estimate of Burden: Public reporting burden for collecting information under this notice is estimated to average 15-30 minutes per response, including the time for reviewing instructions, searching existing data sources, gathering and maintaining the data needed, and completing and reviewing the collection of information.

Respondents: Business and other for profit organizations.

Respondents: 2,030.

Estimated Number of Annual Responses per Respondent: 36,333.

Estimated Total Annual Burden on Respondents: 6,356 hours.

Proposed topics for comment include: (a) Whether the collection of information is necessary for the proper performance of the functions of the agency, including whether the information will have practical utility; (b) the accuracy of the agency's estimate of burden including the validity of the methodology and assumptions used; (c) enhancing the quality, utility and clarity of the information collected; or (d) minimizing the burden of the collection of the information on those who are to respond, including through the use of appropriate automated, electronic, mechanical, or other technological collection techniques or other forms of information technology. Comments should be directed to the Office of Information and Regulatory Affairs of OMB, Attention: Desk Officer for USDA, Washington, DC 20503, and to Penny Carlson, Acting Chief, Planning and Analysis Division, Kansas City Commodity Office, 9200 Ward Parkway, Kansas City, Missouri 64114, telephone (816) 926-6509, fax (816) 926-1648.

All comments will become a matter of public record.

Signed at Washington, DC, on March 25, 2005.
Thomas B. Hofeller,
Acting Executive Vice President, Commodity Credit Corporation.

[FR Doc. 05-6362 Filed 3-30-05; 8:45 am]

BILLING CODE 3410-05-P